DEPARTMENT OF ENERGY

Federal Energy Regulatory Commission

Notice of Availability of the Final Environmental Impact Statement for the Shawmut Hydroelectric Project, Weston Hydroelectric Project, Hydro-Kennebec Hydroelectric Project, and Lockwood Hydroelectric Project

| Project Nos.
Brookfield White Pine Hydro, LLC | 2322-069; 2322-071; and 2325-100.
Merimil Limited Partnership | 2574-092.
Hydro-Kennebec, LLC | 2611-091.

In accordance with the National Environmental Policy Act of 1969 and the Federal Energy Regulatory Commission's (Commission) regulations, 18 CFR part 380, the Office of Energy Projects has reviewed the application for license for the Shawmut Hydroelectric Project (FERC No. 2322), the proposed Interim Species Protection Plan for the Shawmut Project, and the Final Species Protection Plan for the Lockwood Hydroelectric Project (FERC No. 2574), Hydro-Kennebec Hydroelectric Project (FERC No. 2611), and Weston Hydroelectric Project (FERC No. 2325) and has prepared a final environmental impact statement (EIS) for the projects. All four projects are located on the Kennebec River, in Kennebec and Somerset Counties, Maine.

The final EIS contains staff's analysis of the applicant's proposal and the alternatives for licensing the Shawmut Project, and amending the licenses for the Shawmut, Lockwood, Hydro-Kennebec, and Weston projects. The final EIS documents the views of governmental agencies, non-governmental organizations, affected Native-American tribes, the public, the license applicant, and Commission staff.

The Commission provides all interested persons with an opportunity to view and/or print the EIS via the internet through the Commission's Home Page (https://www.ferc.gov/), using the “eLibrary” link. Enter the docket number, excluding the last three digits in the docket number field, to access the document. For assistance, contact FERC Online Support at FERCOnlineSupport@ferc.gov, or toll-free at (866) 208-3676, or for TTY, (202) 502-8659.

You may also register online at https://www.ferc.gov/docs-filing/esubscription.asp to be notified via email of new filings and issuances related to this or other pending projects. For assistance, contact FERC Online Support.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595, or at OPP@ferc.gov.

For further information, contact Marybeth Gay at Marybeth.gay@ferc.gov or 202-502-6125, or Matt Cutlip at Matt.Cutlip@ferc.gov or 503-552-2762.

Dated: February 28, 2025.
Debbie-Anne A. Reese,
Secretary.

[FR Doc. 2025-03674 Filed 3-6-25; 8:45 am]

BILLING CODE 6717-01-P